OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 213.103.

FOR FURTHER INFORMATION CONTACT: Roland Edwards, Senior Executive Resource Services, Employee Services, 202-606-2246.

SUPPLEMENTARY INFORMATION: Appearing in the listing below are the individual authorities established under Schedules A, B, and C between June 1, 2010, and June 30, 2010. These notices are published monthly in the Federal Register at http://www.gpoaccess.gov/fr/. A consolidated listing of all authorities as of June 30 is also published each year. The following Schedules are not codified in the Code of Federal Regulations. These are agency-specific exceptions.

Schedule A

No Schedule A authorities to report during June 2010.

Schedule B

No Schedule B authorities to report during June 2010.

Schedule C

The following Schedule C appointments were approved during June 2010.

Office of Management and Budget

BOGS10021 Confidential Assistant to the General Counsel. Effective June 4, 2010.

BOGS10022 Advisor to the Director, Office of Management and Budget. Effective June 30, 2010.

Department of State

DSGS70110 Special Assistant for Economic and Business Affairs. Effective June 3, 2010.

DSGS70109 Legislative Management Officer for Legislative and Intergovernmental Affairs. Effective June 17, 2010.

DSGS70098 Senior Advisor for Intergovernmental Affairs. Effective June 24, 2010.

DSGS70112 Special Assistant to the Assistant Secretary. Effective June 24, 2010.

DSGS70096 Senior Advisor for Business and Commerce. Effective June 30, 2010.

DSGS70115 Public Affairs Specialist for Western Hemispheric Affairs. Effective June 30, 2010.

Department of Treasury

DYGS00496 Senior Advisor, Business Affairs and Public Liaison. Effective June 4, 2010.

DYGS00529 Senior Advisor for Financial Markets. Effective June 4, 2010.

DYGS60379 Advance Specialist to the Deputy Director, Advance. Effective June 7, 2010.

DYGS00461 Senior Advisor to the Assistant Secretary (Tax Policy). Effective June 14, 2010.

DYGS00530 Special Assistant to the Deputy Chief of Staff. Effective June 14, 2010.

DYGS00531 Press Assistant to the Senior Advisor. Effective June 14, 2010.

Department of Defense

DDGS17286 Special Assistant to the Director, Operational Energy Plans and Programs. Effective June 9, 2010.

DDGS17287 Special Assistant of Defense (Acquisition, Technology, and Logistics). Effective June 16, 2010.

DDGS17289 Special Assistant to the Director, Industrial Policy to the Director, Industrial Policy. Effective June 16, 2010.

DDGS17288 Special Counsel to the General Counsel. Effective June 29, 2010.

Department of Justice

DJGS00609 Legislative Assistant to the Assistant Attorney General (Legislative Affairs). Effective June 8, 2010.

DJGS00208 Confidential Assistant to the Director, Office of Public Affairs. Effective June 11, 2010.

DJGS00611 Public Affairs Specialist to the Director, Office of Public Affairs. Effective June 15, 2010.

DJGS00610 Counsel to the Assistant Attorney General. Effective June 16, 2010.

Department of Homeland Security

DMGS00713 Special Assistant for Policy. Effective June 2, 2010.

DMGS00131 Legislative Assistant for Legislative Affairs. Effective June 18, 2010.

Department of the Interior

DIGS01186 Special Assistant for Policy Management and Budget. Effective June 1, 2010.

DIGS01185 Deputy Chief of Staff for Land and Minerals Management. Effective June 8, 2010.

DIGS01188 Special Assistant to the Director of Advance. Effective June 17, 2010.

DIGS01189 Director of New Media for the Office of Communications. Effective June 17, 2010.

DIGS01190 Special Assistant for Ocean Energy Management, Regulation and Enforcement. Effective June 24, 2010.

DIGS01191 Special Assistant for Intergovernmental Affairs. Effective June 28, 2010.

DIGS01192 Deputy Press Secretary/Hispanic Outreach. Effective June 28, 2010.

Department of Agriculture

DAGS01179 Chief of Staff for Research, Education and Economics. Effective June 28, 2010.

Department of Commerce

DCGS00218 Director, Office of Innovation and Entrepreneurship to the Assistant Secretary for Economic Development. Effective June 9, 2010.

DCGS00468 Deputy General Counsel for Strategic Initiatives. Effective June 14, 2010.

DCGS00327 Senior Advisor to the Secretary. Effective June 21, 2010.

DCGS00191 Counsel to the General Counsel. Effective June 30, 2010.

DCGS00609 Protocol Officer for Scheduling and Advance. Effective June 30, 2010.

Department of Labor

DLGS60117 Senior Policy Advisor and Chief of Research of the Women's Bureau. Effective June 16, 2010.

DLGS60233 Senior Policy Advisor. Effective June 16, 2010.

DLGS60272 Special Assistant for Administration and Management. Effective June 28, 2010.

Department of Health and Human Services

DHGS60337 Confidential Assistant (Health Reform) for Legislation (Planning and Budget). Effective June 1, 2010.

DHGS60626 Deputy Director, Office of External Affairs (Food and Drug Administration) to the Associate Commissioner for External Affairs. Effective June 1, 2010.

DHGS60630 Confidential Assistant for Health Resources and Services Administration. Effective June 2, 2010.

DHGS00493 Confidential Assistant for Political Personnel, Boards and Commissions. Effective June 4, 2010.

DHGS60067 Special Assistant to the Chief of Staff. Effective June 4, 2010.

DHGS60338 Senior Legislative Analyst (Health Reform) for Legislation (Planning and Budget). Effective June 4, 2010.

DHGS60339 Confidential Assistant (Health Reform) for Legislation (Planning and Budget). Effective June 28, 2010.

Department of Education

DBGS00211 Special Assistant to the Chief of Staff. Effective June 15, 2010.

DBGS00242 Chief of Staff for Innovation and Improvement. Effective June 18, 2010.

Securities and Exchange Commission

SEOT61003 Confidential Assistant to a Commissioner. Effective June 9, 2010.

Department of Energy

DEGS00818 Special Assistant for Energy. Effective June 1, 2010.

DEGS00817 Special Assistant to the Chief of Staff. Effective June 2, 2010.

DEGS00819 Advance Representative to the Director, Office of Scheduling and Advance. Effective June 7, 2010.

DEGS00820 Special Assistant to the Director, Office of Public Affairs. Effective June 7, 2010.

DEGS00821 Scheduler to the Director, Office of Scheduling and Advance. Effective June 24, 2010.

Small Business Administration

SBGS00681 Special Assistant for Capital Access. Effective June 9, 2010.

General Services Administration

GSGS01387 Special Assistant to the Chief of Staff. Effective June 11, 2010.

GSGS01440 Sustainability Specialist for Governmentwide Policy. Effective June 11, 2010.

GSGS01442 Associate Administrator for Communications and Marketing. Effective June 11, 2010.

GSGS01443 Congressional Relations Specialist for Congressional and Intergovernmental Affairs. Effective June 16, 2010.

GSGS01421 Regional Administrator to the Senior Counselor. Effective June 28, 2010.

Department of Housing and Urban Development

DUGS00037 Director of Scheduling for the Office of Executive Scheduling and Operations. Effective June 4, 2010.

DUGS00249 Director of Advance for the Office of Executive Scheduling and Operations. Effective June 4, 2010.

DUGS60185 General Deputy Assistant Secretary for Congressional and Intergovernmental Relations. Effective June 4, 2010.

Department of Transportation

DTGS60192 Special Assistant to the General Counsel. Effective June 21, 2010.

DTGS60114 Senior Advisor for Accessible Transportation for Transportation Policy. Effective June 24, 2010.

Commodity Futures Trading Commission

CTOT00075 Administrative Assistant to the Commissioner. Effective June 11, 2010.

Authority: 5 U.S.C. 3301 and 3302; E.O. 10577, 3 CFR 1954-1958 Comp., p. 218.

U.S. Office of Personnel Management.
John Berry,
Director.

[FR Doc. 2010-19093 Filed 8-3-10; 8:45 am]

BILLING CODE 6325-39-P